EQUAL EMPLOYMENT OPPORTUNITY COMMISSION

Sunshine Act Meeting Notice

Date and Time: Wednesday, February 28, 2007, 9 a.m. Eastern Time.

Place: Clarence M. Mitchell, Jr. Conference Room on the Ninth Floor of the EEOC Office Building, 1801 “L” Street, NW., Washington, DC 20507.

Status: The meeting will be open to the public.

Matters to be Considered:

Open Session

1. Announcement of Notation Votes; and

2. The E-Race Initiative—Panels of Invited Experts.

Note: In accordance with the Sunshine Act, the meeting will be open to public observation of the Commission's deliberations and voting. (In addition to publishing notices on EEOC Commission meetings in the Federal Register, the Commission also provides a recorded announcement a full week in advance on future commission sessions.)

Please telephone (202) 663-7100 (voice) and (202) 663-4074 (TTY) at any time for information on these meetings. The EEOC provides sign language interpretation at Commission meetings for the hearing impaired. Requests for other reasonable accommodations may be made by using the voice and TTY numbers listed above.

CONTACT PERSON FOR MORE INFORMATION: Stephen Llewellyn, Acting Executive Officer on (202) 663-4070.

Dated: February 15, 2007.
Stephen Llewellyn,
Acting Executive Officer, Executive Secretariat.

[FR Doc. 07-798 Filed 2-16-07; 2:18 pm]

BILLING CODE 6570-06-M